DEPARTMENT OF COMMERCE

National Institute of Standards and Technology

Submission for OMB Review; Comment Request

The Department of Commerce will submit to the Office of Management and Budget (OMB) for clearance the following proposal for collection of information under the provisions of the Paperwork Reduction Act (44 U.S.C. Chapter 35).

Agency: National Institute of Standards and Technology.

Title: Baldrige Executive Fellows Program.

OMB Control Number: 0693-0076.

Form Number(s): None.

Type of Request: Regular submission (revision and extension of a currently approved information collection).

Number of Respondents: 24 per year.

Average Hours per Response: 1 hour.

Burden Hours: 24 hours.

Needs and Uses: Collection needed to obtain information to select applicants for the Baldrige Performance Excellence Program.

Affected Public: Business, health care, education, or other for-profit organizations; health care, education, and other non-profit organizations; and individuals.

Frequency: Annual.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2018-26152 Filed 11-30-18; 8:45 am]

BILLING CODE 3510-13-P